NUCLEAR REGULATORY COMMISSION

[Docket No. 70-7027; NRC-2022-0201]

TRISO-X, LLC; Special Nuclear Material License Application for the TRISO-X Fuel Fabrication Facility; Draft Environmental Impact Statement

AGENCY: Nuclear Regulatory Commission.

ACTION: Request for comment; extension of comment period.

SUMMARY: The U.S. Nuclear Regulatory Commission (NRC) is extending the public comment period for a draft Environmental Impact Statement (EIS) for a Special Nuclear Material License Application for the TRISO-X Fuel Fabrication Facility. TRISO-X, LLC (TRISO-X) requested authorization to possess and use special nuclear material to manufacture high-assay low enriched uranium fuel. The proposed fuel fabrication facility would be located on a 110-acre site at the Horizon Center in Oak Ridge, Roane County, Tennessee. The public comment period was originally scheduled to close on November 17, 2025.

DATES: The due date of comments requested in the document published on November 17, 2025 (90 FR 48508) is extended. Comments should be filed no later than December 8, 2025. Comments received after that date will be considered if it is practical to do so, but the NRC is able to ensure consideration only for comments received on or before that date.

ADDRESSES: You may submit comments by any of the following methods; however, the NRC encourages electronic comment submission through the Federal rulemaking website:

• Federal rulemaking website: Go to https://www.regulations.gov and search for Docket ID NRC-2022-0201. Address questions about Docket IDs in Regulations.gov to Stacy Schumann; telephone: 301-415-0624; email: Stacy.Schumann@nrc.gov. For technical questions, contact the individual(s) listed in the “For Further Information Contact” section of this document.

• Mail comments to: Office of Administration, Mail Stop: TWFN-7-A60M, U.S. Nuclear Regulatory Commission, Washington, DC 20555-0001, ATTN: Program Management, Announcements and Editing Staff.

For additional direction on obtaining information and submitting comments, see “Obtaining Information and Submitting Comments” in the SUPPLEMENTARY INFORMATION section of this document.

FOR FURTHER INFORMATION CONTACT: Jill Caverly, Office of Nuclear Material Safety and Safeguards, U.S. Nuclear Regulatory Commission, Washington, DC 20555-0001; telephone: 301-415-7674; email: Jill.Caverly@nrc.gov.

SUPPLEMENTARY INFORMATION:

I. Obtaining Information and Submitting Comments

A. Obtaining Information

Please refer to Docket ID NRC-2022-0201 when contacting the NRC about the availability of information regarding this document. You may obtain publicly available information related to this action using any of the following methods:

• Federal Rulemaking website: Go to https://www.regulations.gov and search for Docket ID NRC-2022-0201.

• NRC's Agencywide Documents Access and Management System (ADAMS): You may obtain publicly available documents online in the ADAMS Public Documents collection at https://www.nrc.gov/reading-rm/adams.html. To begin the search, select “Begin ADAMS Public Search.” For problems with ADAMS, please contact the NRC's Public Document Room (PDR) reference staff at 1-800-397-4209, at 301-415-4737, or by email to PDR.Resource@nrc.gov. The draft EIS is available in ADAMS under Accession No. ML25267A128.

• NRC's PDR: The PDR, where you may examine and order copies of publicly available documents, is open by appointment. To make an appointment to visit the PDR, please send an email to PDR.Resource@nrc.gov or call 1-800-397-4209 or 301-415-4737, between 8 a.m. and 4 p.m. eastern time (ET), Monday through Friday, except Federal holidays.

• Public Library: A copy of the draft EIS for a Special Nuclear Material License Application for the TRISO-X Fuel Fabrication Facility will be available for public review at the Oak Ridge Public Library, 1401 Oak Ridge Turnpike, Oak Ridge, TN 37830.

B. Submitting Comments

The NRC encourages electronic comment submission through the Federal Rulemaking website (https://www.regulations.gov). Please include Docket ID NRC-2022-0201 in your comment submission.

The NRC cautions you not to include identifying or contact information that you do not want to be publicly disclosed in your comment submission. The NRC will post all comment submissions at https://www.regulations.gov as well as enter the comment submissions into ADAMS. The NRC does not routinely edit comment submissions to remove identifying or contact information.

If you are requesting or aggregating comments from other persons for submission to the NRC, then you should inform those persons not to include identifying or contact information that they do not want to be publicly disclosed in their comment submission. Your request should state that the NRC does not routinely edit comment submissions to remove such information before making the comment submissions available to the public or entering the comment into ADAMS.

II. Discussion

The NRC has prepared a draft EIS as part of its environmental review of the TRISO-X application for a 40-year license to possess and use special nuclear material at a fuel fabrication facility (FFF) to be constructed on a 110-acre greenfield site in Oak Ridge, Roane County, Tennessee. This draft EIS assesses the potential environmental impacts of the TRISO-X license application and the associated proposal to construct, operate, and decommission the FFF, as well as an alternative to the proposed action.

The NRC registered the draft EIS with the U.S. Environmental Protection Agency (EPA) in September 2025. However, due to the lapse of government appropriations, notice of the availability of the document was not published on October 3, 2025, by EPA as originally scheduled. The NRC staff issued a Federal Register notice (FRN) on October 23, 2025 (90 FR 48508) to make the public aware of the availability of the document and to request comments on the draft EIS. That FRN notified the public of the original comment period end date of November 17. However, to be consistent with the requirement in part 51 title 10 of the Code of Federal Regulations, the staff is extending the comment period end date to December 8, 2025. Therefore, the NRC staff will continue to receive draft EIS comments until December 8, 2025.

Dated: November 13, 2025.
For the Nuclear Regulatory Commission.
Kimyata Savoy,
Acting Deputy Director, Division of Rulemaking, Environmental, and Financial Support, Office of Nuclear Material Safety, and Safeguards.

[FR Doc. 2025-19998 Filed 11-14-25; 8:45 am]

BILLING CODE 7590-01-P